NATIONAL ARCHIVES AND RECORDS ADMINISTRATION

Office of Government Information Services

[NARA-2019-027]

Office of Government Information Services Annual Open Meeting

AGENCY: National Archives and Records Administration (NARA).

ACTION: Office of Government Information Services (OGIS) annual open meeting.

SUMMARY: We are announcing OGIS's annual meeting, open to the public. The purpose of the meeting is to discuss OGIS's reviews and reports and allow interested people to appear and present oral or written statements.

DATES: The meeting will take place on Friday, June 14, 2019, from 10 a.m. to 11:30 a.m. EDT. Please register for the meeting no later than 5 p.m. EDT on June 12, 2018.

Location: National Archives and Records Administration (NARA); 700 Pennsylvania Avenue NW; William G. McGowan Theater; Washington, DC 20408.

FOR FURTHER INFORMATION CONTACT: Kirsten Mitchell, by mail at National Archives and Records Administration; Office of Government Information Services; 8601 Adelphi Road—OGIS; College Park, MD 20740-6001, by telephone at 202-741-5770, or by email at ogis@nara.gov, with the subject line “Annual Open Meeting.”

SUPPLEMENTARY INFORMATION: We conduct our meetings in accordance with the Freedom of Information Act, 5 U.S.C. 552(h)(6). OGIS's 2019 Report for Fiscal Year 2018, published during Sunshine Week (March 10-16, 2019), summarizes our work, in accordance with FOIA, 5 U.S.C. 552(h)(4)(A).

In addition to hearing statements from attendees, we will also answer questions during the meeting. Please submit questions before the meeting by emailing ogisopenmeeting@nara.gov through June 13th.

Procedures: The meeting is open to the public. Due to building access procedures, you must register through Eventbrite if you wish to attend. You will also go through security screening when you enter the building. To register, use this link: https://www.eventbrite.com/e/office-of-government-information-services-annual-open-meeting-june-14-2019-tickets-62571667542.

We will also live-stream the meeting on the U.S. National Archives' YouTube channel, https://www.youtube.com/watch?v=ECqipkQsQJM, and include a captioning option. To request additional accommodations (e.g., a transcript), email ogis@nara.gov or call 202-741-5770. Members of the media who wish to register, those who are unable to register online, and those who require special accommodations, should contact Kirsten Mitchell (contact information listed above).

Alina Semo,
Director, Office of Government Information Services.

[FR Doc. 2019-11521 Filed 6-3-19; 8:45 am]

BILLING CODE 7515-01-P